DEPARTMENT OF ENERGY

Federal Energy Regulatory Commission

[Docket No. CP14-87-000]

Southeast Supply Header, LLC; Notice of Application for Certificate of Public Convenience and Necessity

Take notice that on February 20, 2014 Southeast Supply Header, LLC (SESH), 5400 Westheimer Court, Houston, Texas 77056-5310, filed in the above referenced docket an application pursuant to section 7(c) of the Natural Gas Act (NGA) and Part 157 of the Commission's regulations, requesting a certificate of public convenience and necessity authorizing an increase in design capacity of the SESH mainline by 45,000 dekatherms per day; the construction, ownership and operation of a new Dentville Compressor Station, which includes a single compressor (8,000 horsepower), related 0.76 miles of 20-inch piping and appurtenant facilities located in Copiah County, Mississippi; and for rolled-in rate treatment for the project, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Lisa A. Connolly, General Manager, Rates and Certificates, at (713) 627-4102, Southeast Supply Header, LLC, P.O. Box 1642, Houston, Texas 77251-1642.

Specifically, SESH states that the additional capacity of 45,000 dekatherms per day will be made available by a receipt point pressure commitment from Enable Gas Transmission, LLC (EGT) at SESH's Delhi, Louisiana interconnect with EGT's Line CP. This capacity is created solely from the higher design delivery pressure from EGT and does not require any new facilities by EGT or SESH. In consideration for EGT's use of existing compression facilities on its system to satisfy its pressure commitment at the Line CP Interconnect, SESH has agreed to provide EGT with 1,300 dekatherms per day of natural gas as fuel reimbursement and is requesting authorization to recover the fuel reimbursement through its fuel tracker mechanism. SESH also states that 25,000 dekatherms per day of the additional capacity is under a precedent agreement and related firm service agreement under Rate Schedule FTS with Southern Company Services, Inc. for a primary term of approximately 10 years, scheduled to begin September 1, 2014; remaining 20,000 dekatherms per day are available for subscription in accordance with the provisions of SESH's FERC Gas Tariff. The company states it is necessary to construct a new Dentville Compressor Station (November 1, 2015 in-service date) to ensure that adequate delivery pressure is available to maintain on a reliable, long-term basis the operational capabilities of the SESH/Texas Eastern Transmission, LP (Texas Eastern) Interconnect. SESH states that the project will result in no subsidization from existing shippers, and it is seeking rolled-in rate treatment for the project. SESH states the total estimated cost of constructing the project is $47,876,821. SESH and Texas Eastern have each agreed to provide funding for fifty percent (50%) of the cost of the Dentville Compressor Station.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy regulatory Commission, 888 First Street NE., Washington, DC 20426.

This filing is accessible on-line at http://www.ferc.gov, using the “eLibrary” link and is available for review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: March 27, 2014.

Dated: March 6, 2014.
Kimberly D. Bose,
Secretary.

[FR Doc. 2014-05417 Filed 3-11-14; 8:45 am]

BILLING CODE 6717-01-P